DEPARTMENT OF ENERGY

Federal Energy Regulatory Commission

Notice of Application for Transfer of Licenses and Soliciting Comments and Motions To Intervene

Littleville Power Company, Inc., Kelley's Falls, LLC, Somersworth Hydro Company, Inc., Newbury Hydro Company, LLC, Hydro Energies Corporation, Barnet Hydro Company, LLC, Mascoma Hydro Corporation, Salmon Falls Hydro, LLC, Green Mountain Power Corporation | Project Nos. 2801-039, 3025-027, 4451-018, 5261-021, 5313-015, 5702-017, 8405-021, and 11163-048, respectively.

On September 14, 2016, the above mentioned transferors and Green Mountain Power Corporation (transferee) filed an application for transfer of licenses for the following projects.

Project number | Project name | Location
P-2801-039 | Glendale Project | Housatonic River, Berkshire County, MA.
P-3025-027 | Kelley's Falls Project | Piscataquog River, Hillsborough County, NH.
P-4451-018 | Lower Great Falls Project | Salmon Falls River, Strafford County, NH; York County, ME.
P-5261-021 | Newbury Project | Wells River, Orange County, VT.
P-5313-015 | Dewey's Mills Hydroelectric Project | Wells River, Orange County, VT.
P-5702-017 | Barnet Hydro Project | Stevens River, Caledonia County, VT.
P-8405-021 | Glen Hydro Project | Mascoma River, Grafton County, NH.
P-11163-048 | South Berwick Hydroelectric Project | Salmon Falls River, York County, ME; Rollinsford & Strafford, counties, NH.

The transferors and transferee seek Commission approval to transfer the licenses for the above mentioned projects from the transferors to the transferee.

Applicant Contacts: For Transferor: Mr. Stephen Pike, Vice President, Operations, Enel Green Power North America, Inc., 1 Tech Drive, Suite 220, Andover, MA 01810, Email: Stephen.Pike@enel.com and General Counsel, Enel Green Power North America, Inc., 1 Tech Drive, Suite 220, Andover, MA 01810, Email: generalcounsel@enel.com. For Transferee: Ms. Charlotte Ancel, Vice President, Power Supply & General Counsel, Green Mountain Power Corporation, 163 Acorn Lane, Colchester, VT 05446, Email: Charlotte.Ancel@greenmountainpower.com and Ms. Elizabeth Kohler, Esq., Downs Rachlin Martin PLLC, 199 Main Street, P.O. Box 190, Burlington, VT 05402, Email: EKohler@drm.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2801-039, P-3025-027, P-4451-018, P-5261-021, P-5313-015, P-5702-017, P-8405-021, and P-11163-048.

Dated: October 5, 2016.
Kimberly D. Bose,
Secretary.

[FR Doc. 2016-24602 Filed 10-11-16; 8:45 am]

BILLING CODE 6717-01-P